DEPARTMENT OF ENERGY

Federal Energy Regulatory Commission

Combined Notice of Filings #1

November 19, 2009.

Take notice that the Commission received the following exempt wholesale generator filings:

Docket Numbers: EG10-9-000.

Applicants: Nacogdoches Power, LLC.

Description: Self Certification Notice of Nacogdoches Power, LLC.

Filed Date: 11/18/2009.

Accession Number: 20091118-5043.

Comment Date: 5 p.m. Eastern Time on Wednesday, December 9, 2009.

Take notice that the Commission received the following electric rate filings:

Docket Numbers: ER98-2782-016.

Applicants: Power City Partners LP.

Description: Power City Partners, LP submits notice of change in status in compliance with the requirements of Section 35.42 of the regulations of the FERC etc.

Filed Date: 11/17/2009.

Accession Number: 20091118-0104.

Comment Date: 5 p.m. Eastern Time on Tuesday, December 8, 2009.

Docket Numbers: ER05-757-005.

Applicants: Victoria International LTD.

Description: Amendment to Application of Victoria International LTD.

Filed Date: 11/18/2009.

Accession Number: 20091118-5094.

Comment Date: 5 p.m. Eastern Time on Wednesday, December 9, 2009.

Docket Numbers: ER09-1556-000; ER09-1556-001; ER09-1557-000; ER09-1557-001; ER09-1619-000.

Applicants: Midwest Independent Transmission System Operator, Inc.

Description: The Midwest Independent Transmission System Operator, Inc submits response to the Commission's letter dated 10/20/09 seeking additional information re the filing dated 8/7/09 etc.

Filed Date: 11/04/2009.

Accession Number: 20091106-0062.

Comment Date: 5 p.m. Eastern Time on Wednesday, November 25, 2009.

Docket Numbers: ER10-34-001.

Applicants: Energy Consulting Services.

Description: Energy Consulting Services, LLC submits the Petition for Acceptance of Initial Tariff, Waivers and Blanket Authority, FERC Electric Tariff, Original Volume 1.

Filed Date: 11/09/2009.

Accession Number: 20091112-0094.

Comment Date: 5 p.m. Eastern Time on Monday, November 30, 2009.

Docket Numbers: ER10-71-001.

Applicants: Elmwood Park Power LLC.

Description: Elmwood Park Power LLC submits sub. tariff sheets to reflect the Elmwood is a Category 1 seller in all regions other than the Northwest region etc.

Filed Date: 11/17/2009.

Accession Number: 20091118-0105.

Comment Date: 5 p.m. Eastern Time on Tuesday, December 8, 2009.

Docket Numbers: ER10-266-001.

Applicants: Trans Bay Cable LLC.

Description: Trans Bay Cable LLC submits Substitute Original Sheet 20 reflecting the deletion in Section 5.1 as well as a blackline of Sheet 20 to show the change.

Filed Date: 11/16/2009.

Accession Number: 20091118-0107.

Comment Date: 5 p.m. Eastern Time on Monday, December 7, 2009.

Docket Numbers: ER10-281-000.

Applicants: Southwest Power Pool, Inc., E.ON U.S. LLC.

Description: Southwest Power Pool, Inc et al. submits joint of notice of termination of the ITO Agreement.

Filed Date: 10/26/2009.

Accession Number: 20091117-0080.

Comment Date: 5 p.m. Eastern Time on Friday, November 27, 2009.

Docket Numbers: ER10-285-000.

Applicants: Carolina Power & Light Company.

Description: Carolina Power & Light Company submits revised Power Supply Agreement, Sixth Revised Rate Schedule FERC No 134 with North Carolina Electric Membership Corp.

Filed Date: 11/17/2009.

Accession Number: 20091118-0108.

Comment Date: 5 p.m. Eastern Time on Tuesday, December 8, 2009.

Take notice that the Commission received the following electric securities filings:

Docket Numbers: ES10-9-000.

Applicants: Southern Power Company.

Description: Application for financing authority of Southern Power Company.

Filed Date: 11/18/2009.

Accession Number: 20091118-5093.

Comment Date: 5 p.m. Eastern Time on Wednesday, December 9, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-28281 Filed 11-24-09; 8:45 am]

BILLING CODE 6717-01-P